FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011741-021.

Title: U.S. Pacific Coast-Oceania Agreement.

Parties: ANL Singapore Pte Ltd./CMA CGM S.A.; Hamburg-Sud; and Hapag-Lloyd AG.

Filing Party: Wayne R. Rohde, Esq.; Cozen O'Conner; 1200 19th Street NW., Washington, DC 20036.

Synopsis: The amendment revises the space allocations of the parties.

Agreement No.: 012297-003.

Title: ECNA/ECSA Vessel Sharing Agreement.

Parties: Hamburg Sud; Alianca Navegacao e Logistica Ltds. E CIA; Companhia Libra de Navegacao; Hapag-lloyd AG.

Filing Party: Wayne Rohde, Esq.; Cozen O'Connor; 1200 19th Street NW., Washington, DC 20036.

Synopsis: The Amendment would revise the space allocations of the parties and add authority for the parties to make minor adjustments to those allocations in the future without having to amend the Agreement.

Agreement No.: 012310-001.

Title: Crowley Latin America Services, LLC/Antillean Marine Shipping Corp. Space Charter Agreement.

Parties: Crowley Latin America Services, LLC and Antillean Marine Shipping Corp.

Filing Party: Wayne R. Rohde, Esq.; Cozen O'Connor, 1627 I Street NW., Washington, DC 20006.

Synopsis: The Agreement would revise the agreement to authorize the reciprocal, rather than one-way, chartering of space in the trade covered by the Agreement.

By Order of the Federal Maritime Commission.
Dated: September 2, 2016.
Rachel E. Dickon,
Assistant Secretary.

[FR Doc. 2016-21595 Filed 9-7-16; 8:45 am]

BILLING CODE 6731-AA-P